DEPARTMENT OF EDUCATION

National Assessment Governing Board; Meeting

AGENCY: National Assessment Governing Board, U.S. Department of Education.

ACTION: Notice of open and closed meeting sessions.

SUMMARY: This notice sets forth the schedule and proposed agenda for the upcoming meeting of the National Assessment Governing Board (Board) and also describes the specific functions of the Board. Notice of this meeting is required under Section 10(a)(2) of the Federal Advisory Committee Act. This notice is issued to provide members of the general public with an opportunity to attend and/or provide comments. Individuals who will need special accommodations in order to attend the meeting (e.g. interpreting services, assistive listening devices, materials in alternative format) should notify Munira Mwalimu at 202-357-6938 or at Munira.Mwalimu@ed.gov no later than May 6, 2013. We will attempt to meet requests after this date but cannot guarantee availability of the requested accommodation. The meeting site is accessible to individuals with disabilities.

DATES: May 16-May 18, 2013.

Times

May 16: Committee Meetings

Assessment Development Committee: Closed Session: 8:00 a.m.-1:45 p.m.

Ad Hoc Committee on NAEP Background Information: 2:00 p.m.-4:00 p.m.

Executive Committee: Open Session: 4:30 p.m.-5:30 p.m.; Closed Session: 5:30 p.m.-6:30 p.m.

May 17: Full Board and Committee Meetings

Full Board: Open Session: 8:30 a.m.-9:45 a.m.; Closed Session: 12:45 p.m.-1:45 p.m.; Open Session: 2:00 p.m.-5:15 p.m.

Committee Meetings

Assessment Development Committee (ADC): Closed Session: 10:00 a.m.-11:00 a.m.; Open Session: 11:00 a.m.-12:30 p.m.

Reporting and Dissemination Committee (R&D): Open Session: 10:00 a.m.-12:30 p.m.

Committee on Standards, Design and Methodology (COSDAM): Open Session: 10:00 a.m.-12:30 p.m.

May 18: Full Board and Committee Meetings

Nominations Committee: Closed Session: 7:30 a.m.-8:15 a.m.

Full Board: Open Session: 8:30 a.m.-11:00 a.m.

Location: The Omni Los Angeles Hotel, 251 South Olive Street, Los Angeles, CA 90012.

FOR FURTHER INFORMATION CONTACT: Munira Mwalimu, Executive Officer, National Assessment Governing Board, 800 North Capitol Street NW., Suite 825, Washington, DC 20002-4233, Telephone: (202) 357-6938.

SUPPLEMENTARY INFORMATION: The National Assessment Governing Board (Board) is established under section 412 of the National Education Statistics Act of 1994, as amended.

The Board is established to formulate policy guidelines for the National Assessment of Educational Progress (NAEP). The Board's responsibilities include the following: selecting subject areas to be assessed, developing assessment frameworks and specifications, developing appropriate student achievement levels for each grade and subject tested, developing standards and procedures for interstate and national comparisons, developing guidelines for reporting and disseminating results, and releasing initial NAEP results to the public.

On May 16, 2013, the Assessment Development Committee will meet in closed session from 8:00 a.m. to 1:45 p.m. to review secure NAEP test materials for Science Interactive Computer Tasks (ICTs) at grades 4, 8, and 12 for the 2014 pilot test, in preparation for the 2015 NAEP Science assessment. The review of secure ICTs for grades 4, 8, and 12 must be conducted in closed session because the ADC members will be provided with secure items and materials which are not yet available for release to the general public. Premature disclosure of the secure test items and materials would compromise the integrity and substantially impede implementation of the secure NAEP assessments and is therefore protected by exemption 9(B) of section 552b(c) of Title 5 of the United States Code.

On May 16, 2013, the Ad Hoc Committee on NAEP Background Information will meet in open session from 2:00 p.m. to 4:00 p.m. Thereafter, the Executive Committee will convene in open session from 4:30 p.m. to 5:30 p.m. and in closed session from 5:30 p.m. to 6:30 p.m. During the closed session, the Executive Committee will receive and discuss costs for specific activities under individual current contracts, and independent government cost estimates from the National Center for Education Statistics (NCES) staff on various options for proposed item development, data collection, scoring and analysis, and reporting of National Assessment of Educational Progress (NAEP) results for 2013-2017, and their implications on future NAEP activities. The costs of specific activities budgeted under current contracts would disclose financial information that is proprietary, protected under Section 552b(c)(4) of Title 5 U.S.C. The discussion of independent government cost estimates for the NAEP 2013-2017 contracts is necessary for ensuring that NAEP contracts meet congressionally mandated goals and adhere to Board policies on NAEP assessments available at www.nagb.org/policies.html. This part of the meeting must be conducted in closed session because public disclosure of this information would likely have an adverse financial effect on the NAEP program by providing contractors attending an unfair advantage in procurement and contract negotiations for NAEP. Discussion of this information would be likely to significantly impede implementation of a proposed agency action if conducted in open session. Such matters are protected by exemption 9(B) of section 552b of Title 5 U.S.C.

On May 17, 2013, the full Board will meet in open session from 8:30 a.m. to 9:45 a.m., followed by a closed session from 12:45 p.m. to 1:45 p.m., and an open session from 2:00 p.m. to 5:15 p.m.

On May 17, 2013, from 8:30 a.m. to 9:45 a.m., the Board will review and approve the May 17-18, 2013 Board meeting agenda and meeting minutes from the March 2012 Quarterly Board meeting. Thereafter, the Chairman will open the meeting with welcome remarks from California Board member Shannon Garrison. The Superintendent of Los Angeles Unified School District will then address the Board. These sessions will be followed by a report from the Executive Director of the Governing Board, and updates from the Commissioner of the National Center for Education Statistics (NCES) and the Director of the Institute of Education Sciences (IES). Thereafter, the Board will recess for Committee meetings from 10:00 a.m. to 12:30 p.m. The Reporting and Dissemination Committee and the Committee on Standards, Design and Methodology will meet in open sessions from 10:00 a.m. to 12:30 p.m. The Assessment Development Committee (ADC) will meet first in closed session from 10:00 a.m. to 11:00 a.m. for ADC members to receive and discuss embargoed data from the 2013 Technological and Engineering Literacy (TEL) pilot test at 8th grade, in preparation from the 2014 operational TEL assessment. The review of data from the pilot test must be conducted in closed session because the ADC members will be provided with secure items and materials which are not yet available for release to the general public. Premature disclosure of the secure test items and materials would compromise the integrity and substantially impede implementation of the secure NAEP assessments and is therefore protected by exemption 9(B) of section 552b(c) of Title 5 of the United States Code. Thereafter, the ADC Committee will meet in open session from 11:00 a.m. to 12:30 p.m.

Following the open session, the Board will meet in a closed session from 12:45 p.m. to 1:45 p.m. to receive a briefing on the NAEP 2012 Long-Term Trend Report. The Board will receive an embargoed briefing on preliminary results which will include secure test items, embargoed assessment data, and results that cannot be discussed in an open meeting prior to their official release. Premature disclosure of these results would significantly impede implementation of the NAEP assessment program, and is therefore protected by exemption 9(B) of section 552b(c) of Title 5 United States Code.

After the closed session briefing, the Board will meet in open session from 2:00 p.m. to 5:15 p.m. From 2:00 p.m.-3:00 p.m. the Board will receive a briefing on English Language Proficiency Testing. From 3:00 p.m. to 4:00 p.m., the Board will have policy discussions on the Draft Policy Statement on the Conduct and Reporting of NAEP and on Interpreting NAEP Proficient Using Preparedness Research Findings. From 4:15 p.m. to 5:15 p.m., the Board will discuss proposals on Making a Difference. The May 17, 2013 Board meeting is scheduled to adjourn at 5:15 p.m.

On May 18, 2013, the Nominations Committee will meet in closed session from 7:30 a.m. to 8:15 a.m. to discuss the status of potential candidates for Board terms beginning October 1, 2013, followed by discussions on the 2014 nominations cycle. The Committee's discussions on Board nominations pertain solely to internal personnel rules and practices of an agency and information of a personal nature where disclosure would constitute an unwarranted invasion of personal privacy. As such, the discussions are protected by exemptions 2 and 6 of section 552b(c) of Title 5 of the United States Code.

On May 18, 2013, from 8:30 a.m. to 9:30 a.m. the full Board will have an open discussion on matters of interest to the Board. Following these discussions, from 9:45 a.m. to 11:00 a.m., the Board will receive reports from the standing Committees and take action on Committee recommendations. The May 18, 2013 meeting is scheduled to adjourn at 11:00 a.m.

A verbatim transcript of the meeting, including summaries of the activities of the closed sessions and related matters that are informative to the public and consistent with the policy of section 5 U.S.C. 552b(c) will be available to the public within 14 days of the meeting. Records are kept of all Board proceedings and are available for public inspection at the U.S. Department of Education, National Assessment Governing Board, Suite #825, 800 North Capitol Street NW., Washington, DC, from 9:00 a.m. to 5:00 p.m. Eastern Time, Monday through Friday.

Electronic Access to This Document: You may view this document, as well as all other documents of this Department published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free at 1-866-512-1800; or in the Washington, DC, area at (202) 512-0000. Note: The official version of this document is the document published in the Federal Register. Free Internet access to the official edition of the Federal Register and the Code of Federal Regulations is available on GPO Access at: www.gpoaccess.gov/nara/index.html.

Dated: April 29, 2013.
Mary Crovo,
Deputy Executive Director, National Assessment Governing Board (NAGB), U.S. Department of Education.

[FR Doc. 2013-10411 Filed 5-1-13; 8:45 am]

BILLING CODE 4000-01-P